DEPARTMENT OF THE INTERIOR

National Park Service

[NPS-WASO-NAGPRA-22597; PPWOCRADN0-PCU00RP14.R50000]

Notice of Intent To Repatriate Cultural Items: Arkansas Archeological Survey, Fayetteville, AR

AGENCY: National Park Service, Interior.

ACTION: Notice.

SUMMARY: The Arkansas Archeological Survey, in consultation with the appropriate Indian tribes or Native Hawaiian organizations, has determined that the cultural items listed in this notice meet the definition of unassociated funerary objects. Lineal descendants or representatives of any Indian tribe or Native Hawaiian organization not identified in this notice that wish to claim these cultural items should submit a written request to the Arkansas Archeological Survey. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Arkansas Archeological Survey at the address in this notice by March 27, 2017.

ADDRESSES: Dr. George Sabo, Director, Arkansas Archeological Survey, 2475 North Hatch Avenue, Fayetteville, AR 72704, telephone (479) 575-3556.

SUPPLEMENTARY INFORMATION: Notice is here given in accordance with the Native American Graves Protection and Repatriation Act (NAGPRA), 25 U.S.C. 3005, of the intent to repatriate cultural items under the control of the Arkansas Archeological Survey that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, six cultural items were removed from unknown areas in southern Arkansas. These cultural items were given to Southern Arkansas University at an unknown date, and donated to the Arkansas Archeological Survey in 2016. The six unassociated funerary objects are one East Incised fragmentary jar, one East Incised bowl, one Nash Neck Banded jar, one effigy jar, one plain bowl, and one Hempstead Engraved bottle (Catalog #95-440-49, 50, 52, 55, 60, 61).

The pottery types are well known examples of Caddo traditional wares. East Incised and Hempstead Engraved finewares are found throughout Southwest Arkansas, along the Red River Valley in the vicinity of the Great Bend, and into adjoining corners of Texas, Louisiana, and Oklahoma. The time spans for the types overlap, with East Incised associated with the East Phase and ranging between A.D. 1100 and 1400, Hempstead Engraved is associated with the Haley Phase as well as the East Phase and was made between about A.D. 1200 and 1450. Nash Neck Banded was made in the 15th and 16th centuries. All three types were made before European contact and during the Caddo tradition.

The Caddo archeological tradition developed between A.D. 900 and 1000 in the four corners region of Arkansas, Texas, Louisiana and Oklahoma. Distinctive characteristics include a dispersed residential settlement of families with a lifestyle grounded in farming and collecting wild plants and animals. The core of community life was a religious and political center with ceremonial and burial mounds, public areas for community events and rituals, and a small residential population believed to be religious and political leaders and their families. Caddo ceramics are highly distinctive with dual manufacturing traditions that produced both refined wares decorated with complex stylized incised and engraved designs and utilitarian wares with highly plastic incised, punctuated, and brushed designs that are dominated by geometric motifs.

The Caddo continued to practice traditional settlement arrangements and material crafts well into the contact period. This is confirmed in part by past discoveries of distinctive Caddo ceramics and other artifacts found with European trade items in locations where French and Spanish observers documented their settlements. There is thus a strong material link between historic Caddo Tribal communities and pre-contact archeological remains. The collection enumerated here is entirely typical of pre-contact Caddo Tradition material culture.

Determinations Made by the Arkansas Archeological Survey

Officials of the Arkansas Archeological Survey have determined that:

• Pursuant to 25 U.S.C. 3001(3)(B), the 6 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Caddo Nation of Oklahoma.

Additional Requestors and Disposition

Lineal descendants or representatives of any Indian tribe or Native Hawaiian organization not identified in this notice that wish to claim these cultural items should submit a written request with information in support of the claim to Dr. George Sabo, Director, Arkansas Archeological Survey, 2475 North Hatch Avenue, Fayetteville, AR 72704, telephone (479) 575-3556, by March 27, 2017. After that date, if no additional claimants have come forward, transfer of control of the unassociated funerary objects to the Caddo Nation of Oklahoma may proceed.

The Arkansas Archeological Survey is responsible for notifying the Caddo Nation of Oklahoma that this notice has been published.

Dated: December 19, 2016.
Melanie O'Brien,
Manager, National NAGPRA Program.

[FR Doc. 2017-03606 Filed 2-23-17; 8:45 am]

BILLING CODE 4312-52-P